DEPARTMENT OF TRANSPORTATION

Federal Aviation Administration

Termination of Previously Initiated Processes for the Development of Air Tour Management Plans and Environmental Assessments/Environmental Impact Statements for Various National Park Units and Notice of Intent To Complete Air Tour Management Plans at 23 National Park Units

AGENCY: Federal Aviation Administration, Department of Transportation.

ACTION: Notice of Termination of Previously Initiated Processes for Air Tour Management Plans and Associated Environmental Documents and Notice of Intent to Complete Air Tour Management Plans at 23 National Park Units.

SUMMARY: The Federal Aviation Administration (FAA), in cooperation with the National Park Service (NPS), announces that it is terminating previously initiated processes for the development of Air Tour Management Plans (ATMP) and Environmental Assessments (EA)/Environmental Impact Statements (EIS) for a number of National Park System units. The agencies had initiated and actively worked these processes at a number of parks from 2004 to 2011 but ceased all work by September 2012 due to a focus on other program priorities. Given the length of time since these processes were initiated and actively worked, termination of these processes will allow the agencies to start anew with the development of ATMPs and associated environmental documents at these and other parks.

FOR FURTHER INFORMATION CONTACT: Keith Lusk, Program Manager, AWP-1SP, Federal Aviation Administration, Western-Pacific Region, 777 S Aviation Boulevard, Suite 150, El Segundo, California 90245. Telephone: (424) 405-7017.

SUPPLEMENTARY INFORMATION: In the following Federal Register notices the FAA, in cooperation with the National Park Service (NPS), had provided notice of its intent to develop EA/EIS documents for the ATMPs at various National Park System units pursuant to the National Parks Air Tour Management Act of 2000 (NPATMA) (Pub. L. 106-181) and its implementing regulations contained in 14 CFR part 136, subpart B, National Parks Air Tour Management:

Haleakala National Park (68 FR 3301, Jan. 23, 2003; 69 FR 9420-9422, Feb. 27, 2004; and 71 FR 66575-66576, Nov. 15, 2006);

Hawaii Volcanoes National Park (68 FR 3301-3302, Jan. 23, 2003; 69 FR 9420-9422, Feb. 27, 2004; and 70 FR 44416-44417, Aug. 2, 2005);

Mount Rushmore National Memorial (69 FR 20660-20661, Apr. 16, 2004);

Badlands National Park (69 FR 20658-20659, Apr. 16, 2004);

Lake Mead National Recreation Area (69 FR 20659-20660, Apr. 16, 2004);

Death Valley National Park (75 FR 2922-2923, Jan. 19, 2010);

Mount Rainier National Park (75 FR 16899-16900, Apr. 2, 2010; 75 FR 18568-18569, Apr. 12, 2010); and

Golden Gate National Recreation Area/San Francisco Maritime National Historical Park/Point Reyes National Seashore (76 FR 45312, July 2011).

In 2004, the FAA and NPS began preparing environmental documentation to comply with NPATMA and the National Environmental Policy Act (NEPA) (Pub. L. 91-190), which requires Federal agencies to consider the environmental impacts associated with a major Federal action, such as completing an ATMP. The agencies were unable to complete any ATMPs due primarily to differences in their respective approaches to environmental analysis.

In 2012, the agencies ceased work on the development of ATMPs and associated environmental documentation at these parks and refocused efforts on implementation of various NPATMA amendment provisions included in the FAA Modernization and Reform Act of 2012 (Pub. L. 112-95). In particular, the agencies focused on the development of Voluntary Agreements (VAs), which do not require compliance with NEPA.

On February 14, 2019, Public Employees for Environmental Responsibility and the Hawaii Coalition Malama Pono filed a petition for writ of mandamus in the U.S. Court of Appeals for the District of Columbia Circuit seeking to have the FAA and the NPS complete air tour management plans or voluntary agreements at seven specified parks. On May 1, 2020, the Court granted the petition and ordered the FAA and the NPS to file a proposed schedule within 120 days for bringing all 23 eligible parks into compliance with NPATMA within two years or to provide specific, concrete reasons why it would take longer.

The agencies intend to bring the 23 national park units referenced in the Court's order into compliance with NPATMA over the next two years through the development of ATMPs or, secondarily, voluntary agreements. The 23 national park units, listed below, consist of the ten aforementioned park units along with 13 other park units where the ATMP process was never initiated.

1. Arches National Park

2. Badlands National Park

3. Bandelier National Monument

4. Bryce Canyon National Park

5. Canyon de Chelly National Monument

6. Canyonlands National Park

7. Death Valley National Park

8. Everglades National Park

9. Glacier National Park

10. Glen Canyon National Recreation Area

11. Golden Gate National Recreation Area

12. Great Smoky Mountains National Park

13. Haleakalā National Park

14. Hawai'i Volcanoes National Park

15. Lake Mead National Recreation Area

16. Mount Rainier National Park

17. Mount Rushmore National Memorial

18. Natural Bridges National Monument

19. National Parks of New York Harbor Management Unit

20. Olympic National Park

21. Point Reyes National Seashore

22. Rainbow Bridge National Monument

23. San Francisco Maritime National Historical Park

In accordance with NPATMA, for each ATMP the agencies develop, they will hold at least one public meeting, publish the proposed ATMP in the Federal Register, comply with NEPA, and invite Tribes to participate as cooperating agencies, as appropriate. The agencies intend to accomplish these requirements in a consolidated fashion to the extent practical. The agencies have been meeting regularly over the last year to resolve past disagreements over the environmental analysis and NEPA compliance and have successfully resolved key concerns. Both agencies will sign the ATMPs and environmental decision documents. All ATMPs that the agencies create will include adaptive management measures to ensure the continued effectiveness of each ATMP over time. For any voluntary agreement, the agencies will provide an opportunity for public review and, where applicable, tribal consultation.

Issued in El Segundo, California on August 31, 2020.
Keith Lusk,
Program Manager, Special Programs Staff, Western-Pacific Region.

[FR Doc. 2020-19490 Filed 9-2-20; 8:45 am]

BILLING CODE 4910-13-P